FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010776-124.

Title: Asia North America Eastbound Rate Agreement.

Parties:

American President Lines, Ltd.

APL Co. PTE Ltd.

Hapag-Lloyd Container Line GmbH

Kawasaki Kisen Kaisha, Ltd.

Mitsui O.S.K. Lines, Ltd.

A. P. Moller-Maersk Sealand

Nippon Yusen Kaisha

Orient Overseas Container Line Limited

P&O Nedlloyd B.V. and P&O Nedlloyd Limited.

Synopsis: The proposed agreement modification extends the suspension of the conference through May 1, 2004.

Agreement No.: 011798-002.

Title: Atlantic Space Charter Agreement.

Parties:

Hapag-Lloyd Container Linie GmbH

Nippon Yusen Kaisha

Orient Overseas Container Line Limited

Orient Overseas Container Line (Europe)Limited

Orient Overseas Container Line Inc.

P&O Nedlloyd Limited

P&O Nedlloyd B.V.

Lykes Lines Limited LLC

TMM Lines Limited LLC

COSCO Container Lines Company, Ltd.

Kawasaki Kisen Kaisha, Ltd

Yang Ming (UK) Ltd.

Synopsis: The agreement reflects the name change of Dart ML Limited to Orient Overseas Container Line (Europe) Limited.

Agreement No.: 011815-002.

Title: Transpacific Space Charter Agreement.

Parties:

Hapag-Lloyd Container Linie GmbH

Nippon Yusen Kaisha

Orient Overseas Container Line Limited

Orient Overseas Container Line (Europe) Limited

Orient Overseas Container Line Inc.

P&O Nedlloyd Limited

P&O Nedlloyd B.V.

Synopsis: The agreement reflects the name change of Dart ML Limited to Orient Overseas Container Line (Europe) Limited.

Agreement No.: 011830-001.

Title: Indamex/APL Agreement.

Parties: Contship Containerlines

CMA CGM, S.A.

The Shipping Corporation of India, Ltd.

APL Co. PTE Ltd.

American President Lines, Ltd.

Synopsis: The proposed agreement modification reflects changes in the number and size of the vessels used in the Indamex service and deletes obsolete language.

Agreement No.: 201149.

Title: Port Inland Distribution Network Service Agreement

Parties:

Port of New York and New Jersey,

Port of Albany.

Synopsis: The agreement will provide for the implementation and funding of a feeder barge service between the Port of New York and New Jersey and the Port of Albany.

By Order of the Federal Maritime Commission.
Dated: October 17, 2003.
Bryant L. VanBrakle,
Secretary.

[FR Doc. 03-26683 Filed 10-21-03; 8:45 am]

BILLING CODE 6730-01-P